DEPARTMENT OF LABOR

Employment and Training Administration

[TA-W-60,825]

Golden Ratio Woodworks; Emigrant, MT; Notice of Affirmative Determination Regarding Application for Reconsideration

On May 27, 2007, the U.S. Department of Labor (Department) received a request for administrative reconsideration of the Department's Notice of Negative Determination Regarding Eligibility to Apply for Worker Adjustment Assistance, applicable to workers and former workers of the subject firm. The negative determination was issued on May 1, 2007. On May 17, 2007, the Department's Notice of Determination was published in the Federal Register (72 FR 27855). Workers produce massage tables, chairs, and accessories.

The negative determination was based on the Department's findings that the subject firm did not shift production abroad and that the subject firm's major declining customers' imports did not contribute importantly to workers' separations.

In the request for reconsideration, the workers alleged that increased subject firm imports and increased foreign competition contributed to workers' separations.

The Department has carefully reviewed the workers' request for reconsideration and has determined that the Department will conduct further investigation.

Conclusion

After careful review of the application, I conclude that the claim is of sufficient weight to justify reconsideration of the U.S. Department of Labor's prior decision. The application is, therefore, granted.

Signed at Washington, DC, this 11th day of June 2007.
Richard Church,
Certifying Officer,Division of Trade Adjustment Assistance.

[FR Doc. E7-11835 Filed 6-19-07; 8:45 am]

BILLING CODE 4510-FN-P